DEPARTMENT OF ENERGY

Federal Energy Regulatory Commission

[Docket No. DI02-1-000]

Notice of Declaration of Intention and Soliciting Comments, Motions To Intervene, and Protests

October 25, 2001.

Take notice that the following application has been filed with the Commission and is available for public inspection:

a. Application Type: Declaration of Intention.

b. Docket No.: DI02-1-000.

c. Date Filed: October 11, 2001.

d. Applicant: Peter Fox Sipp, Jr.

e. Name of Project: Peter Fox Sipp's Hydro-Generating Facility.

f. Location: The Peter Fox Sipp Hydro-Generating Facility would be located approximately 15 miles from Burnsville, North Carolina, on the Cane River in Yancy County, North Carolina. The project will not occupy Federal or Tribal land.

g. Filed Pursuant to: Section 23(b)(1) of the Federal Power Act, 16 U.S.C. 817(b).

h. Applicant Contact: Peter Fox Sipp, 8 Bear Creek Place, Asheville, NC 28806, telephone (828) 258-8139.

i. FERC Contact: Any questions on this notice should be addressed to Patricia W. Gillis (202) 208-0735, or E-mail address: patricia.gillis@ferc.fed.us.

j. Deadline for filing comments and/or motions: December 7, 2001.

All documents (original and eight copies) should be filed with: David P. Boergers, Secretary, Federal Energy Regulatory Commission, 888 First Street, NE., Washington, DC 20426. Copies of this filing are on file with the Commission and are available for public inspection. Comments, protests and interventions may be filed electronically via the Internet in lieu of paper. See, 18 CFR 385.2001(a)(1)(iii) and the instructions on the Commission's web site under the “e-Filing” link.

Please include the docket number (DI02-1-000) on any comments or motions filed.

k. Description of Project: The proposed Peter Sipp's Hydro-Generating Facility would consist of: (1) A jib crane; (2) a paddle type wheel 12 feet wide, 14 feet in diameter; (3) a drawbridge with a screen on the upstream side only in front of the wheel; (4) a 12-volt automotive alternator and producing approximately 420 watts connected to a 24-volt D.C. x 25 amp truck generator producing approximately 600 watts; and (5) appurtenant facilities.

When a Declaration of Intention is filed with the Federal Energy Regulatory Commission, the Federal Power Act requires the Commission to investigate and determine if the interests of interstate or foreign commerce would be affected by the project. The Commission also determines whether or not the project: (1) Would be located on a navigable waterway; (2) would occupy or affect public lands or reservations of the United States; (3) would utilize surplus water or water power from a government dam; or (4) if applicable, has involved or would involve any construction subsequent to 1935 that may have increased or would increase the project's head or generating capacity, or have otherwise significantly modified the project's pre-1935 design or operation.

l. Locations of the Application: Copies of this filing are on file with the Commission and are available for public inspection. Copies of this filing are on file with the Commission and are available for public inspection. This filing may also be viewed on the web at http://www.ferc.gov using the “RIMS” link, select “Docket#” and follow the instructions (call 202-208-2222 for assistance).

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-27331 Filed 10-30-01; 8:45 am]

BILLING CODE 6717-01-P